DEPARTMENT OF COMMERCE

International Trade Administration

[A-533-809]

Notice of Extension of Time Limit for the Preliminary Results of Antidumping Duty Administrative Review: Stainless Steel Flanges from India

AGENCY: Import Administration, International Trade Administration, Department of Commerce.

EFFECTIVE DATE: November 1, 2007.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On February 9, 1994, the Department published the antidumping duty order on stainless steel flanges from India. See Amended Final Determination and Antidumping Duty Order; Certain Forged Stainless Steel Flanges from India, 59 FR 5994 (February 9, 1994). On February 2, 2007, the Department published the Notice of Opportunity to Request Administrative Review for this order covering the POR. See Antidumping or Countervailing Duty Order, Finding, or Suspended Investigation; Opportunity to Request Administrative Review, 72 FR 5007 (February 2, 2007). On February 28, 2007, we received requests for an administrative review for the period February 1, 2006, through January 31, 2007, from Nakshatra and Shree Ganesh.¹ On March 28, 2007, we initiated the administrative reviews. See Initiation of Antidumping and Countervailing Duty Administrative Reviews, 72 FR 14516 (March 28, 2007).

¹ We also received requests for administrative reviews from Echjay Forgings Pvt., Ltd., and Hilton Metal Forging, Ltd. However, both of these companies subsequently withdrew their requests for review in a timely manner. Therefore, we rescinded the administrative review with respect to these companies. See Partial Rescission of Antidumping Duty Administrative Review: Certain Forged Stainless Steel Flanges from India, 72 FR 41292 (July 27, 2007).

Extension of Time Limit for Preliminary Results

The Tariff Act of 1930, as amended (the Act), at section 751(a)(3)(A), provides that the Department will issue the preliminary results of an administrative review of an antidumping duty order within 245 days after the last day of the anniversary month of the date of publication of the order. The Act provides further that if the Department determines that it is not practicable to complete the review within this time period, the Department may extend the 245-day period to 365 days.

The Department has determined that it is not practicable to complete the preliminary results by the current 245-day deadline of October 31, 2007. Based on our analysis of Nakshatra's comparison market sales listing, we have determined that we need to obtain data on Nakshatra's downstream sales in the comparison market. The Department requires additional time to request these data, analyze the response, and complete the antidumping calculation. Therefore, in accordance with section 751(a)(3)(A) of the Act, and 19 CFR 351.213(h)(2), the Department is extending the time limit for the preliminary results by 120 days to February 28, 2008.

This notice is issued and published in accordance with sections 751(a)(3)(A) and 777(i)(1) of the Act.

Dated: October 26, 2007.
Stephen J. Claeys,
Deputy Assistant Secretary for Import Administration.

[FR Doc. E7-21530 Filed 10-31-07; 8:45 am]

BILLING CODE 3510-DS-S